DEPARTMENT OF HOUSING AND URBAN DEVELOPMENT

[Docket No. FR-4562-N-10]

Notice of Submission of Proposed Information Collection to OMB Application Kit—HUD Urban Scholars Fellowships Program

AGENCY: Office of the Assistant Secretary for Policy Development and Research, HUD.

ACTION: Notice.

SUMMARY: The proposed information collection requirement described below has been submitted to the Office of Management and Budget (OMB) for emergency review and approval, as required by the Paperwork Reduction Act. The Department is soliciting pubic comments on the subject proposal.

DATES: Comments Due Date: December 26, 2000.

ADDRESSES: Interested persons are invited to submit comments regarding this proposal. Comments must be received within seven (7) days from the date of this Notice. Comments should refer to the proposal by name and should be sent to: Reports Liaison Officer, Office of Policy Development and Research, Department of Housing and Urban Development, 451 7th Street, SW., Room 8126, Washington, DC 20410.

FOR FURTHER INFORMATION CONTACT: Jane Karadbil, Office of University Partnerships—telephone (202) 708-1537, extension 5918. This is not a toll-free number. Copies of available documents submitted to OMB may be obtained from Ms. Karadbil.

SUPPLEMENTARY INFORMATION: This Notice informs the public that the Department of Housing and Urban Development (HUD) has submitted to OMB, for emergency processing, an information collection package with respect to a proposed Notice of Funding Availability for the HUD Urban Scholars Fellowship Program. HUD seeks to implement this initiative as soon as possible.

The HUD Urban Scholars Fellowship Program seeks to encourage recent Ph.D.s to undertake research now, and throughout their careers, on research topics of interest to HUD. Approximately 10 fellows will be selected with Fiscal Year 2000 funds.

Submission of the information required under this information collection is mandatory in order to compete for and receive the benefits of the program. All materials submitted are subject to the Freedom of Information Act and can be disclosed upon request. An agency may not conduct or sponsor, and a person is not required to respond to, a collection of information unless the collection displays a valid control number. The OMB control number, when assigned, will be announced by a separate notice in the Federal Register.

The Department has submitted the proposal for the collection of information, as described below, to OMB for review, as required by the Paperwork Reduction Act (44 U.S.C. Chapter 35):

(1) Title of the information collection proposal:

Application Kit—HUD Urban Scholars Fellowship Program

(2) Summary of the collection of information:

Each applicant for this program would be required to submit current information, as listed below as:

(A) SF-424, Application for Federal Assistance. Include the name and address of the person authorized to execute the grant agreement in Block 5. Include the institution's tax ID number in Block 6. The Catalogue of Federal Domestic Assistance number for the program is 14.518. The form should be signed by the appropriate university official.

(B) Applicant information including:

(1) Title of the research project;

(2) Applicant's name, university and home addresses, university and home telephone and facsimile numbers, and email address;

(3) Applicant's university name, department, mailing address, telephone and facsimile numbers.

(4) Applicant's advisor's name, address, telephone and facsimile number;

(5) Applicant's mentor's name, address, telephone and facsimile number;

(6) Graduate and post-graduate education.

(C) A letter from the chair of the applicant's department that he/she has met all the eligibility criteria.

(D) A letter from the appropriate official that describes the support from the applicant's university.

(E) A letter from the applicant's mentor stating his/her qualifications to be the applicant's mentor and his/her proposed role in the research project.

(F) A one-page abstract of the research project.

(G) A narrative of the proposed research, not to exceed 10 double-spaced typed pages. This narrative must include the following in the following order:

(1) Statement of the problem;

(2) Research design and methodology;

(3) Policy relevance of the research;

(4) How the research will add to the current knowledge base.

(H) A working bibliography of the proposed project.

(I) An annotated bibliography, e.g., a two- or three-sentence annotation for ten to twelve key sources in the working bibliography.

(J) List of the applicant's publications: books, refereed journal articles, chapters contributed to books, articles in published proceedings, and any other articles.

(K) List of presentations made and posters exhibited during the last five years.

(L) Grants and awards received during the last five years.

(M) Teaching load during the last five years.

(N) Four to six letters of reference.

(O) A proposed budget.

(3) Description of the need for the information and its proposed use:

To appropriately determine which applicants should be awarded HUD Urban Scholars Fellowships, certain information is necessary about the applicant's research project and qualifications.

(4) Description of the likely respondents, including the estimated number of likely respondents, and proposed frequency of response to the collection of information:

Respondents will PhDs with academic appointments at institutions of higher education. Fellows will also be expected to prepare and submit progress reports half-way through their fellowships and a final report.

The estimated number of respondents submitting applications is 100. The proposed frequency of the response to the collection of information is one-time. The application need only be submitted once. The estimated number of respondents to the monitoring requirements is 10.

(5) Estimate of the total reporting burden that will result from the collection of information:

Reporting Burden: Number of respondents: 100 for applicants; 10 for monitoring requirements.

Total burden hours: 32 hours per respondent for applications; 12 hours a year per respondent for monitoring requirements.

Total Estimated Burden Hours: 3,320.

Authority: Section 3507 of the Paperwork Reduction Act of 1995, 44 U.S.C. Chapter 35, asa amended.

Dated: December 12, 2000.
Susan M. Wachter,
Assistant Secretary for Policy Development and Research.

[FR Doc. 00-32306 Filed 12-18-00 8:45 am]

BILLING CODE 4210-62-M